NUCLEAR REGULATORY COMMISSION

[Docket Nos. 50-18 and 50-185; NRC-2022-0210]

GE-Hitachi Nuclear Energy Americas, LLC; Vallecitos Boiling Water Reactor and the Empire State Atomic Development Agency Vallecitos Experimental Superheat Reactor; Limited Post-Shutdown Decommissioning Activities Report

AGENCY: Nuclear Regulatory Commission.

ACTION: Notice of receipt; availability; request for comment.

SUMMARY: By letter dated September 21, 2022, as supplemented by letter dated November 22, 2022, GE-Hitachi Nuclear Energy Americas, LLC (GEH, the licensee) submitted to the U.S. Nuclear Regulatory Commission (NRC) a “limited” post-shutdown decommissioning activities report (LPSDAR) for the Vallecitos Boiling Water Reactor (VBWR) and the Empire State Atomic Development Agency Vallecitos Experimental Superheat Reactor (EVESR). The LPSDAR provides an overview of GEH's planned activities, schedule, projected costs, and environmental impacts for the decommissioning of the VBWR and EVESR. Accordingly, the NRC is noticing receipt of the LPSDAR and making it available for public comment.

DATES: Submit comments by April 24, 2023. Comments received after this date will be considered, if it is practical to do so, but the NRC is able to ensure consideration only for comments received on or before this date. See section III, “Request for Comment,” of this document for additional information.

ADDRESSES: You may submit comments by any of the following methods; however, the NRC encourages electronic comment submission through the Federal rulemaking website:

• Federal Rulemaking Website: Go to https://www.regulations.gov and search for Docket ID NRC-2022-0210. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jack D. Parrott, Office of Nuclear Material Safety and Safeguards, U.S. Nuclear Regulatory Commission, Washington DC 20555-0001, telephone: 301-415-6634; email: Jack.Parrott@nrc.gov.

SUPPLEMENTARY INFORMATION:

I. Obtaining Information and Submitting Comments

A. Obtaining Information

Please refer to Docket ID NRC-2022-0210 when contacting the NRC about the availability of information for this action. You may obtain publicly available information related to this action by any of the following methods:

• Federal Rulemaking Website: Go to https://www.regulations.gov and search for Docket ID NRC-2022-0210.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal Rulemaking website (https://www.regulations.gov). Please include Docket ID NRC-2022-0210 in your comment submission.

The NRC cautions you not to include identifying or contact information that you do not want to be publicly disclosed in your comment submission. The NRC will post all comment submissions at https://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The VBWR, NRC License No. DPR-1, and EVESR, NRC License No. DR-10, are licensed as nuclear power reactors under part 50 of title 10 of the Code of Federal Regulations (10 CFR), “Domestic Licensing of Production and Utilization Facilities.” The reactors are located at the GEH Vallecitos Nuclear Center (VNC) in Alameda County, California. The VBWR is considered to have permanently ceased operations on September 9, 1965, upon issuance of a possession-only license by NRC. Likewise, EVESR was considered permanently shut-down upon issuance of its possession-only license on April 15, 1970. The spent nuclear fuel from each reactor has been permanently removed from the VNC site.

The regulations in 10 CFR 50.82, “Termination of license,” govern the decommissioning of nuclear reactor facilities licensed by the NRC. Documents equivalent to decommissioning plans for the VBWR and EVESR were submitted to the NRC on March 21, 1991 (ADAMS Accession Nos. ML20021A155 and ML20021A144, respectively). Paragraph (a)(4)(i) of 10 CFR 50.82, “Termination of license,” states that a Post-Shutdown Decommissioning Activities Report (PSDAR) shall be submitted prior to or within 2 years following permanent cessation of operations. However, since the decommissioning plans for the VBWR and EVESR were submitted before the regulations in 10 CFR 50.82 were first promulgated in 1996, the licensee was exempted from submitting PSDARs. The first paragraph of 10 CFR 50.82 describes that decommissioning plans submitted before the effective date of the rule, August 28, 1996 (61 FR 39278), are considered to be the PSDAR submittals for those reactors.

However, on September 21, 2022, as supplemented on November 22, 2022 (ADAMS Package Accession No. ML22326A351), GEH submitted a LPSDAR, for the VBWR and EVESR. A PSDAR is a description of the planned decommissioning activities along with a schedule for their accomplishment, a discussion that provides the reasons for concluding that the environmental impacts associated with site-specific decommissioning activities will be bounded by appropriate previously issued environmental impact statements, and a site-specific decommissioning cost estimate. Although not required to submit PSDARs for the VBWR and EVESR because of the previously submitted decommissioning plans, GEH prepared a LPSDAR according to the requirements of 10 CFR 50.82(a)(4)(i) and the NRC's guidance for PSDARs in Regulatory Guide 1.185, Revision 1, “Standard Format and Content for Post-Shutdown Decommissioning Activities Report,” (ADAMS Accession No. ML13140A038) and submitted to the NRC on September 21, 2022. This was done to demonstrate how GEH would comply with the requirements of 10 CFR 50.82(a)(6) and 10 CFR 50.82(a)(7) which do apply to the decommissioning of the VBWR and EVESR. The requirements of 10 CFR 50.82(a)(6) and 10 CFR 50.82(a)(7) restrict the decommissioning activities that can be performed and require GEH to notify NRC of any changes to the decommissioning activities that are inconsistent with those described in the PSDAR.

While the requirements of a PSDAR submittal do not apply to the LPSDAR submittal for the VBWR and EVESR, including the requirements for NRC to notice receipt of the PSDAR, make it available for public comment, and to hold a public meeting in the vicinity of the site, NRC is noticing receipt of the LPSDAR and making it available for public comment to enhance transparency and provide for public participation in our regulatory activities in accordance with NRC's approach to open government. While NRC will not be holding a public meeting in conjunction with this LPSDAR submittal, there will be public meetings held when GEH submits a License Termination Plan (LTP) for the VBWR by September 8, 2023, and by April 15, 2028, for the EVESR in accordance with 10 CFR 50.82(a)(9)(i) which requires LTPs to be submitted at least 2 years before termination of the license, and 10 CFR 50.82(a)(3) which requires that power reactor decommissioning be complete within 60 years of the permanent cessation of operations. An LTP must include a site characterization, identification of remaining dismantlement activities, plans for site remediation and the final radiation survey, an updated site-specific estimate of remaining decommissioning costs, a supplement to the environmental report describing any new information or significant environmental change associated with the proposed license termination activities, and identification of any parts of the site that were released for use before approval of the LTP.

III. Request for Comment

The VBWR and EVESR LPSDAR is available in ADAMS under Package Accession No. ML22264A324. The NRC is requesting public comments on the LPSDAR for the VBWR and EVESR by April 24, 2023. The NRC will review the LPSDAR to the requirements of a PSDAR and send a letter to GEH with the results of our evaluation, and the consideration of any public comments.

Dated: December 20, 2022.
For the Nuclear Regulatory Commission.
Shaun M. Anderson,
Chief, Reactor Decommissioning Branch, Division of Decommissioning, Uranium Recovery, and Waste Programs, Office of Nuclear Material Safety and Safeguards.

[FR Doc. 2022-27987 Filed 12-22-22; 8:45 am]

BILLING CODE 7590-01-P